DEPARTMENT OF JUSTICE

Antitrust Division

Notice Pursuant To The National Cooperative Research and Production Act of 1993—Affymetrix, Inc., Molecular Dynamics, Inc. and Molecular Applications Group

Notice is hereby given that, on August 17, 1999, pursuant to Section 6(a) of the National cooperative Research and Production Act of 1993, 15 U.S.C. 4301 et seq. (“the Act”), Affymetrix Gene Chip has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Affymetrix, Inc., Santa Clara, CA; Molecular Dynamics, Inc., Sunnyvale, CA; and Molecular Applications Group, Palo Alto, CA. The nature and objectives of the venture are to conduct research and development activities relating to the miniature integrated nucleic acid diagnostic (MIND) development. The work is being performed pursuant to Proposal No. 94-05-0016 made to the National Institute of Standards and Technology, United States Department of Commerce, Advanced Technology Program (“the Proposal”). The work will be performed to generate and develop nucleic acid evaluation systems for use in, for example, DNA diagnostics, research, forensics, and other applications.

Constance K. Robinson,
Director of Operations Antitrust Division.

[FR Doc. 00-10596 Filed 4-27-00; 8:45 am]

BILLING CODE 4410-11-M